COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete products that were furnished by nonprofit agencies employing persons who are blind or have other severe disabilities.

EFFECTIVE DATE: 4/9/2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Deletions

On 2/3/2017 (82FR 9203-9204), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 2540-00-402-2157—Curtain, Vehicular

Mandatory Source(s) of Supply: APEX, Inc., Anadarko, OK

Contracting Activity: Defense Logistics Agency Land and Maritime

NSN(s)—Product Name(s):

1440-01-126-8966—Tarpaulin

1440-01-132-7799—Cover, Protective

Mandatory Source(s) of Supply: Huntsville Rehabilitation Foundation, Huntsville, AL

Contracting Activity: Defense Logistics Agency Land and Maritime

NSN(s)—Product Name(s): 2590-01-114-7396—Kit, Repair

Mandatory Source(s) of Supply: Association of Retarded Citizens of Sabine, Inc., Many, LA

Contracting Activity: Defense Logistics Agency Land and Maritime

NSN(s)—Product Name(s):

8415-01-579-8677—Multi-Cam Trouser

8415-01-579-8744—Multi-Cam Trouser

8415-01-579-8553—Multi-Cam Trouser

8415-01-579-8570—Multi-Cam Trouser

8415-01-579-8227—Multi-Cam Trouser

8415-01-579-8354—Multi-Cam Trouser

8415-01-579-8791—Multi-Cam Trouser

8415-01-579-9119—Multi-Cam Trouser

8415-01-579-8112—Multi-Cam Trouser

8415-01-579-7850—Multi-Cam Trouser

8415-01-579-9132—Multi-Cam Trouser

8415-01-579-9120—Multi-Cam Trouser

8415-01-579-8719—Multi-Cam Trouser

8415-01-579-8385—Multi-Cam Trouser

8415-01-579-8558—Multi-Cam Trouser

8415-01-579-8580—Multi-Cam Trouser

8415-01-579-8263—Multi-Cam Trouser

8415-01-579-8365—Multi-Cam Trouser

8415-01-579-8771—Multi-Cam Trouser

8415-01-579-8080—Multi-Cam Trouser

8415-01-579-8126—Multi-Cam Trouser

8415-01-579-9121—Multi-Cam Trouser

8415-01-579-8591—Multi-Cam Trouser

8415-01-579-8784—Multi-Cam Trouser

8415-01-579-8551—Multi-Cam Trouser

8415-01-579-8684—Multi-Cam Trouser

8415-01-579-8276—Multi-Cam Trouser

8415-01-579-8788—Multi-Cam Trouser

8415-01-579-9123—Multi-Cam Trouser

8415-01-579-8098—Multi-Cam Trouser

8415-01-582-4206—Multi-Cam Trouser

8415-01-579-9130—Multi-Cam Trouser

8415-01-579-8776—Multi-Cam Trouser

8415-01-579-8714—Multi-Cam Trouser

8415-01-579-8766—Multi-Cam Trouser

8415-01-579-8561—Multi-Cam Trouser

Mandatory Source(s) of Supply: Goodwill Industries of South Florida, Inc., Miami, FL; ReadyOne Industries, Inc., El Paso, TX

Contracting Activity: Army Contracting Command—Aberdeen Proving Ground, Natick Contracting Division

NSN(s)—Product Name(s): 6135-01-486-1443—Battery, Non-Rechargeable, 6V, Alkaline, NEDA 915A, EA/1

Mandatory Source(s) of Supply: Eastern Carolina Vocational Center, Inc., Greenville, NC

Contracting Activity: Defense Logistics Agency Land and Maritime

Amy B. Jensen,
Director, Business Operations.

[FR Doc. 2017-04764 Filed 3-9-17; 8:45 am]

BILLING CODE 6353-01-P